SMALL BUSINESS ADMINISTRATION

13 CFR Part 125

RIN 3245-AG24

Small Business Mentor Protégé Programs; Correction

AGENCY: U.S. Small Business Administration.

ACTION: Final rule; correction.

SUMMARY: The U.S. Small Business Administration (SBA) published a final rule in the Federal Register on July 25, 2016, (81 FR 48557) to, among other things, implement provisions of the National Defense Authorization Act of 2013, which pertain to performance requirements applicable to small business and socioeconomic program set-aside contracts and small business subcontracting. That rule contained an instruction to amend portions of § 125.6 that do not exist. This document removes the amendatory instruction.

DATES: Effective October 19, 2016.

FOR FURTHER INFORMATION CONTACT: Michael McLaughlin, Office of Policy, Planning & Liaison, U.S. Small Business Administration, 409 Third Street SW., Washington, DC 20416; 202-205-5353; michael.mclaughlin@sba.gov.

SUPPLEMENTARY INFORMATION: SBA published a final rule in the Federal Register on May 31, 2016 (81 FR 34243). That rule amended § 125.6. On July 25, 2016, SBA published a separate final rule in the Federal Register (81 FR 48557) that purported to amend § 125.6 by removing “§ 125.15” from the introductory text of paragraph (b) and adding in its place “§ 125.18” and by removing “§ 125.15(b)(3)” from paragraph (b)(5) and adding in its place “§ 125.18(b)(3)”. These amendments could not be implemented as instructed because paragraph 125.6 (b) does not contain the text to be removed. These changes inadvertently failed to take into account the amendments made to § 125.6 by the final rule published on May 31, 2016. This correction removes the instruction to amend § 125.6 published on July 25, 2016, in 81 FR 48558.

In the FR Rule Doc. No. 2016-16399 in the issue of July 25, 2016, beginning on page 48557, make the following correction:

On page 48585, in the third column, remove amendatory instruction 34 in its entirety and the amendment to § 125.6.

A. John Shoraka,
Associate Administrator for Government Contracting and Business Development.

[FR Doc. 2016-24832 Filed 10-18-16; 8:45 am]

BILLING CODE 8025-01-P